DEPARTMENT OF AGRICULTURE

Office of the Secretary

Meeting Notice of the National Agricultural Research, Extension, Education, and Economics Advisory Board

AGENCY: Research, Education, and Economics, USDA.

ACTION: Notice of meeting.

SUMMARY: In accordance with the Federal Advisory Committee Act, 5 U.S.C. App 2, Section 1408 of the National Agricultural Research, Extension, and Teaching Policy Act of 1977 (7 U.S.C. 3123), and the Agricultural Act of 2014, the United States Department of Agriculture (USDA) announces an open meeting of the National Agricultural Research, Extension, Education, and Economics Advisory Board.

DATES: The National Agricultural Research, Extension, Education, and Economics Advisory Board will meet April 27-29, 2015: April 27, 2015, 1:00 p.m.-5:30 p.m. EDT; April 28, 2015, 8:00 a.m.-5:00 p.m. EDT; and April 29, 2015, 8:00 a.m.-12:00 p.m. EDT.

ADDRESSES: The meeting will be held at the American Geophysical Union Conference Center, 2000 Florida Avenue NW., Washington, DC 20009. Written comments from the public may be sent to: The National Agricultural Research, Extension, Education, and Economics Advisory Board Office, Room 332A, Whitten Building, United States Department of Agriculture, STOP 0321, 1400 Independence Avenue SW., Washington, DC 20250-0321.

FOR FURTHER INFORMATION CONTACT: Michele Esch, Designated Federal Officer and Executive Director, or Shirley Morgan-Jordan, Program Support Coordinator, National Agricultural Research, Extension, Education, and Economics Advisory Board; telephone: (202) 720-3684; fax: (202) 720-6199; or email: michele.esch@usda.gov or Shirley.Morgan@ars.usda.gov.

SUPPLEMENTARY INFORMATION:

Purpose of the Meeting: To provide advice and recommendations on the top priorities and policies for food and agricultural research, education, extension and economics.

Tentative Agenda: The agenda will include the following items:

• Update on the activities of the Research, Education, and Economics mission area.

• Discussion and deliberation on the process for completing the mandatory annual relevancy and adequacy review of the programs and activities of the Research, Education, and Economics mission area.

• Presentation and discussion on a culture of safety in agricultural research.

• Presentation and discussion on an assessment of the food system.

• Updates from the permanent subcommittees and working groups of the NAREEE Advisory Board, including the presentation and deliberation of the Report and Recommendations of the National Genetics Resources Advisory Council (NGRAC).

Public Participation: This meeting is open to the public and any interested individuals wishing to attend. Opportunity for public comment will be offered at the end of each day of the meeting. To attend the meeting and/or make oral statements regarding any items on the agenda, you must contact Shirley Morgan-Jordan at 202-720-3684; email: shirley.morgan@ars.usda.gov at least 5 business days prior to the meeting. Members of the public will be heard in the order in which they sign up at the beginning of the meeting. The Chair will conduct the meeting to facilitate the orderly conduct of business. Written comments by attendees or other interested stakeholders will be welcomed for the public record before and up to two weeks following the Board meeting (by close of business Wednesday, May 13, 2015). All written statements must be sent to Michele Esch, Designated Federal Officer and Executive Director, The National Agricultural Research, Extension, Education, and Economics Advisory Board, Room 332A, Whitten Building, United States Department of Agriculture, STOP 0321, 1400 Independence Avenue SW., Washington, DC 20250-0321; or email: nareee@ars.usda.gov. All statements will become a part of the official record of the National Agricultural Research, Extension, Education, and Economics Advisory Board and will be kept on file for public review in the Research, Education, and Economics Advisory Board Office.

Done at Washington, DC, this 27 day of March 2015.
Ann Bartuska,
Deputy Under Secretary, Research, Education, and Economics.

[FR Doc. 2015-07603 Filed 4-2-15; 8:45 am]

BILLING CODE 3410-03-P